DEPARTMENT OF DEFENSE

Office of the Secretary

Renewal of Department of Defense Federal Advisory Committees

AGENCY: DoD.

ACTION: Renewal of Federal Advisory Committee.

SUMMARY: The Department of Defense (DoD) is publishing this notice to announce that it is renewing the charter for the United States Military Academy Board of Visitors (“the Board”).

FOR FURTHER INFORMATION CONTACT: Jim Freeman, Advisory Committee Management Officer for the Department of Defense, 703-692-5952.

SUPPLEMENTARY INFORMATION: This committee's charter is being renewed pursuant to 10 U.S.C. 4355 and in accordance with the Federal Advisory Committee Act of 1972 (5 U.S.C. Appendix, as amended), the Government in the Sunshine Act of 1976 (5 U.S.C. 552b) (“the Sunshine Act”), and 41 CFR 102-3.50(a).

The Board is a non-discretionary Federal advisory committee that shall provide independent advice and recommendations to the President of the United States on matters relating to but not limited to morale and discipline, curriculum, instruction, physical equipment, fiscal affairs, academic methods and other matters relating to the United States Military Academy (“the Academy”) that the Board decides to consider. (10 U.S.C. 4355(e))

The Board shall visit the Academy annually. With the approval of the Secretary of the Army, the Board or its members may make other visits to the Academy in connection with the duties of the Board or to consult with the Superintendent of the Academy. The Board shall submit a written report to the President within 60 days after its annual visit to the Academy, to include the Board's views and recommendations pertaining to the Academy. Any report of a visit, other than the annual visit, shall, if approved by a majority of the members of the Board, be submitted to the President within 60 days after the approval. (10 U.S.C. 4355(d) and (f))

The Board, pursuant to 10 U.S.C. 4355, shall be constituted annually and composed of 15 members. The Board membership shall include:

a. The Chair of the Senate Committee on Armed Services, or designee;

b. Three other members of the Senate designated by the Vice President or the President pro tempore of the Senate, two of whom are members of the Senate Committee on Appropriations;

c. The Chair of the House Committee on Armed Services, or designee;

d. Four other members of the House of Representatives designated by the Speaker of the House of Representatives, two of whom are members of the House Committee on Appropriations; and

e. Six persons designated by the President.

Board members designated by the President shall serve for three years each, except that any member whose term of office has expired shall continue to serve until a successor is appointed. The President shall designate two persons each year to succeed the members whose terms expire that year.

If a member of the Board dies or resigns, a successor shall be designated for the unexpired portion of the term by the official who designated the member.

The Board members shall select the Chair from the total membership.

Board members who are full-time or permanent part-time Federal officers or employees shall be appointed pursuant to 41 CFR 102-3.130(a) to serve as regular government employee (RGE) members. Board members, who are not full-time or permanent part-time Federal officers or employees, shall be appointed as experts or consultants pursuant to 5 U.S.C. 3109 to serve as special government employee (SGE) members.

With the exception of reimbursement of official Board-related travel and per diem, Board members shall serve without compensation.

The Board may, pursuant to 10 U.S.C. 4355(g) and upon approval by the Secretary of the Army, call in advisers for consultation. These advisers shall, with the exception of reimbursement for official Board-related travel and per diem, serve without compensation.

The DoD, when necessary and consistent with the Board's mission and DoD policies and procedures, may establish subcommittees, task forces, or working groups to support the Board. Establishment of subcommittees will be based upon a written determination, to include terms of reference, by the Secretary of Defense, the Deputy Secretary of Defense, or the Secretary of the Army, as the Board's sponsor.

Such subcommittees shall not work independently of the Board and shall report all of their recommendations and advice solely to the Board for full and open deliberation and discussion. Subcommittees, task forces, or working groups have no authority to make decisions and recommendations, verbally or in writing, on behalf of the Board. No subcommittee or its members may update or report, verbally or in writing, on behalf of the Board, directly to the DoD or to any Federal officer or employee.

The Secretary of Defense or the Deputy Secretary of Defense will appoint subcommittee members to a term of service of one-to-four years, with annual renewals, even if the member in question is already a member of the Board. Subcommittee members shall not serve more than two consecutive terms of service unless authorized by the Secretary of Defense or the Deputy Secretary of Defense.

Subcommittee members, if not full-time or permanent part-time Federal officers or employees, shall be appointed as experts or consultants pursuant to 5 U.S.C. 3109 to serve as SGE members. Subcommittee members who are full-time or permanent part-time Federal officers or employees will serve as RGE members pursuant to 41 CFR 102-3.130(a). With the exception of reimbursement of official Board-related travel and per diem, subcommittee members shall serve without compensation.

All subcommittees operate under the provisions of FACA, the Sunshine Act, governing Federal statutes and regulations, and established DoD policies and procedures.

The estimated number of Board meetings is three per year.

The Board's Designated Federal Officer (DFO), pursuant to DoD policy, shall be a full-time or permanent part-time DoD employee, and shall be appointed in accordance with established DoD policies/procedures. In addition, the Board's DFO is required to attend all Board and subcommittee meetings for the entire duration of each and every meeting. However, in the absence of the Board's DFO, a properly approved Alternate DFO, duly appointed to the Board according to the DoD policies/procedures, shall attend the entire duration of the Board or subcommittee meeting.

The DFO, or the Alternate DFO, shall call all of the Board's and subcommittee's meetings; prepare and approve all meeting agendas; adjourn any meeting when the DFO, or Alternate DFO, determines adjournment to be in the public interest or required by governing regulations or DoD policies/procedures; and chair meetings when directed to do so by the Secretary of the Navy.

Pursuant to 41 CFR 102-3.105(j) and 102-3.140, the public or interested organizations may submit written statements to United States Military Academy Board of Visitors membership about the Board's mission and functions. Written statements may be submitted at any time or in response to the stated agenda of planned meeting of the United States Military Academy Board of Visitors.

All written statements shall be submitted to the DFO for the United States Military Academy Board of Visitors, and this individual will ensure that the written statements are provided to the membership for their consideration. Contact information for the United States Military Academy Board of Visitors DFO can be obtained from the GSA's FACA Database— http://www.facadatabase.gov/.

The DFO, pursuant to 41 CFR 102-3.150, will announce planned meetings of the United States Military Academy Board of Visitors. The DFO, at that time, may provide additional guidance on the submission of written statements that are in response to the stated agenda for the planned meeting in question.

Dated: November 13, 2014.
Aaron Siegel,
Alternate OSD Federal Register Liaison Officer, Department of Defense.

[FR Doc. 2014-27234 Filed 11-17-14; 8:45 am]

BILLING CODE 5001-06-P